DEPARTMENT OF HOUSING AND URBAN DEVELOPMENT

[Docket No. FR-5782-N-01]

Notice of Intent To Prepare an Environmental Impact Statement (EIS) and Notice of Public Scoping Meeting for the Crystal Beach Wastewater Collection System, Galveston County, Texas

AGENCY: Office of the Assistant Secretary for Community Planning and Development, HUD.

ACTION: Notice of Intent to Prepare an EIS and to conduct Public Scoping Meeting.

SUMMARY: The Department of Housing and Urban Development (HUD) gives notice that Galveston County (County), as the Responsible Entity in accordance with 24 CFR 58.2(a)(7), and the Texas General Land Office (GLO) intend to prepare an Environmental Impact Statement (EIS) for the development of a wastewater collection system and treatment facility in the unincorporated community of Crystal Beach on Bolivar Peninsula, Galveston County, Texas. Pursuant to the authority granted by section 104(g) of the Housing and Community Development Act of 1974 (HCD Act) in connection with the Community Development Block Grant Disaster Recovery (CDBG-DR) program, Galveston County has assumed responsibility for compliance with the National Environmental Policy Act (NEPA) and will perform the environmental review. This notice is in accordance with regulations of the Council on Environmental Quality at 40 CFR parts 1500-1508.

A Draft EIS will be prepared for the proposed action described herein. Comments relating to the Draft EIS are requested and will be accepted by the contact person listed below. When the Draft EIS is completed, a notice will be sent to individuals and groups known to have an interest in the Draft EIS and particularly in the environmental impact issues identified therein. Any person or agency interested in receiving a notice and making comment on the Draft EIS should contact the person listed below up to 30 days following publication of this notice.

The EIS will be a NEPA document intended to satisfy requirements of federal environmental statutes. In accordance with specific statutory authority of Section 104(g) of the HCD Act and HUD's regulations at 24 CFR part 58 (Environmental Review Procedures for Entities Assuming HUD Environmental Responsibilities) HUD has provided for assumption of its NEPA authority and NEPA lead agency responsibility by the County.

The proposed project requires the preparation of an EIS (under 24 CFR 58.37) because the project would provide sewer capacity to support 2,500 or more housing units. Responses to this notice will be used to: (1) Determine significant environmental issues, (2) identify data that the EIS should address, and (3) identify agencies and other parties that will participate in the EIS process and the basis for their involvement.

ADDRESSES: Comments relating to the scope of the EIS are requested and will be accepted by the contact person listed below until July 10, 2014. Comments will also be accepted at the scoping meeting on June 26, 2014 described below. All interested Federal, state, and local agencies, Indian tribes, groups, and the public are invited to submit written comments on the project named in this notice and on the scope of the EIS to the contact person shown in this notice. The office of the contact person should receive comments and all comments so received will be considered prior to the preparation and distribution of the Draft EIS. Particularly solicited is information on reports or other environmental studies planned or completed in the project area, major issues that the EIS should consider, recommended mitigation measures, and alternatives associated with the proposed action. Federal agencies having jurisdiction by law, special expertise, or other special interests should report their interest and indicate their readiness to aid in the EIS effort as a “Cooperating Agency.”

FOR FURTHER INFORMATION CONTACT: Nicholas Foster, CDBG Project Coordinator, Galveston County, 722 Moody, 3rd Floor, Galveston, TX 77550; email: Nicholas.Foster@co.galveston.tx.us.

SUPPLEMENTARY INFORMATION:

A. Background

Galveston County, acting under the authority of Section 104(g) of the Housing and Community Development Act of 1974 (42 U.S.C. 5304(g)) and HUD's regulations at 24 CFR part 58, in cooperation with other interested agencies, will prepare an EIS under the National Environmental Policy Act (42 U.S.C. 4321) to analyze potential impacts of the Crystal Beach Wastewater Collection System Project.

Current wastewater treatment services in Crystal Beach on Bolivar Peninsula in Galveston County are primarily individual, private, and on-site septic systems. While there is a small privately owned wastewater treatment facility on the Peninsula, no public sanitary sewer is provided. The Galveston County Health District has processes in place for permitting new and replacement private septic systems, but no inspections or processes are in place for determining system failures.

As a result of Hurricane Ike on September 13, 2008, Galveston County experienced vast infrastructure failure; specific to this project was the failure of wastewater facilities due to salt water contamination and inundation. The failure of these facilities threatened public health, safety and welfare due to the build-up of untreated sewage. Galveston County has received special funding under the 2008 Texas Community Development Block Grant (CDBG) Disaster Recovery Program to address failures associated with Hurricane Ike and/or Hurricane Dolly. According to a 2008 study commissioned by the Bolivar Peninsula Special Utility District (BPSUD), most of the private septic systems in use on the Peninsula are over 20 years old while the average life-span of a system is 15 to 20 years. Additional concerns relating to the capacity of private septic systems have arisen. Typically private septic systems are sized according to soil conditions and the number of residents in a household. While most of the residences on the Peninsula are vacation homes, the number of people inhabiting the residence may exceed the number of people used to design the capacity of the system. This over use causes untreated sewage to be discharged into the groundwater as overflow from the treatment tank, contributing to the nonpoint source pollution in the watershed.

Bolivar Peninsula is located on one of the most cyclonically active parts of the globe where some of the most destructive hurricanes in history have occurred. The most infamous hurricane to affect the region was the Great Galveston Hurricane of 1900 in which an estimated 8,000 people residing on Galveston Island and Bolivar Peninsula died. Following a similar path, Hurricane Ike destroyed an estimated 80 percent of the homes on Bolivar Peninsula, and caused the deaths of 34 people. Most of the coastline of the Bolivar Peninsula experienced shoreline erosion, and consequently, entire neighborhoods were left with nothing remaining other than piles and foundation slabs. Experts have concluded that Hurricane Ike ranks as one of the most severe natural disasters in the recorded history of the Bolivar Peninsula.

Bolivar Peninsula is located within coastal areas with a one percent or greater chance of flooding and an additional hazard associated with storm waves. Several parts of the peninsula are designated as Coastal Barrier Resource Areas. Fifty percent of the land area of Bolivar Peninsula is covered with wetlands and other sensitive ecosystems. The following species protected under Section 7 of the Endangered Species Act as listed in Galveston County and potential habitat may be on Bolivar Peninsula: Attwater's greater prairie-chicken, Eskimo curlew, West Indian manatee, Hawksbill sea turtle, Leatherback sea turtle, Kemp's ridley sea turtle, Piping Plover, Green sea turtle, and the Loggerhead sea turtle. Bolivar Peninsula is home of various wildlife sanctuaries west of the proposed project area on the east side of the Peninsula.

The proposed action includes analyzing wastewater collection system alternatives, wastewater treatment plant alternatives and wastewater treatment plant location (site) alternatives to service Crystal Beach residents. Currently 180 customer accounts are connected to the existing system. The maximum number of customer accounts that potentially could be connected to a new system is approximately 5,000. The proposed project area is approximately 8,100 acres in size. The west project area boundary is the western property line of parcels adjacent to Monkhouse Drive. The east project area boundary is the eastern property line of parcels along Pompano Drive (north of Highway 87) and eastern property line of parcels along Sailfish Drive (south of Highway 87). The north project area is bound by the Gulf Intercoastal Waterway and the south project area boundary is the southern property line of parcels adjacent to the shoreline of Gulf of Mexico.

B. Alternatives to the Proposed Action

Alternatives to the proposed action will be analyzed in the EIS. Typically the alternatives section in an EIS examines development options that would tend to reduce project-related impacts. The full range of alternatives for the wastewater collection system alternatives, wastewater treatment plant alternatives, and wastewater treatment plant site alternatives will be defined when the full extent of the proposed project's impacts is identified, but at this time, it is anticipated that they will include the following:

1. Wastewater Collection System Alternatives

Alternative 1—No Action Alternative

The No Action Alternative would analyze the continuation of use of individual on-site septic systems and existing limited pressure system; therefore, existing private septic and existing limited systems would remain within the project area and no new system or additional system would be implemented.

Alternative 2—Pressure System

Alternative 2 would evaluate the construction of a pressure collection system at proposed location in Crystal Beach. A pressure collection system includes use of an individual grinder pump at each facility connection to pressurize the wastewater through a pressurized pipe grid. The wastewater would be pumped through the network with the aid of strategically located small lift stations to the wastewater treatment plant. Typically, pipes installed for a pressure system can be located shallower in the ground (2 to 4 feet below surface) because slope is not as important to the function of the system.

Alternative 3—Gravity System

Alternative 3 would evaluate the construction of a gravity collection system at proposed location in Crystal Beach. In this system, wastewater would flow by gravity through most of the network. Pipes would need to be installed deeper to allow for the necessary slope to maintain flow. Lift stations would still be required to pump wastewater short distances.

Alternative 4—Vacuum System

Alternative 4 would evaluate the construction of a vacuum system at proposed location in Crystal Beach. A vacuum system conveys waste from homes to a vacuum valve pit then to a vacuum station. The piping for this type of system is similar to a pressure system and constructed in shallow trenches.

2. Wastewater Treatment Plant Alternatives

Two types of wastewater treatment plants would be considered for the Crystal Beach facility, including a packaged treatment plant and a conventionally constructed wastewater treatment plant. Packaged wastewater treatment plants are pre-fabricated and modular and built off-site to be later installed at site. The conventional wastewater treatment plant consists of modular construction and concrete walls/basins and built on-site.

3. Wastewater Treatment Plant Site Alternatives

Six potential site locations were preliminarily reviewed during initial planning of preliminary engineering. Four sites (Site Alternatives C, D, E and F) will be carried forward and evaluated in this EIS for the location of the wastewater treatment plant in Crystal Beach. The site alternatives are located north of State Highway 87 between Whispering Palms to the west and Guppy Drive to the east. It is anticipated that the footprint of the wastewater treatment plant would be about 2 acres and be elevated above the 500-year floodplain.

C. Scoping

A public EIS scoping meeting will be held on June 26, 2014 at 7:00 p.m. at the Galveston County Annex, 946 Noble Carl Drive, Crystal Beach, Texas. The EIS scoping meeting will provide an opportunity for the public to learn more about the project and provide input to the environmental process. At the meeting, an overview of the project will be presented and members of the public will be invited to comment on the proposed project and the scope of work for the environmental analyses in the EIS. Written comments and testimony concerning the scope of the EIS will be accepted at this meeting. In accordance with 40 CFR 1501.7, affected Federal, state, and local agencies, any affected Indian tribe, and other interested parties will be sent a scoping notice. In accordance with 24 CFR 58.59, the scoping hearing will be preceded by a notice of public hearing published in the local news media at least 15 days before the hearing date. Information about the proposed project will be provided at the scoping meeting. Additional information for the scoping meeting may be obtained by contacting, Nicholas Foster, CDBG Project Coordinator, Galveston County, 722 Moody, 3rd Floor, Galveston, TX 77550; email: Nicholas.Foster@co.galveston.tx.us.

D. Probable Environmental Effects

The EIS will analyze impacts to the following resources that may be associated with this proposed project, but not limited to:

• Floodplains

• Wetlands

• Endangered Species

• Migratory Birds

• Coastal Management Zones

• Pollution of Water Resources

• Cultural Resources

• Public health

• Community Impacts

• Indirect and Cumulative Impacts

• Sustainability

Questions may be directed to the individual named in this notice under the heading FOR FURTHER INFORMATION CONTACT.

Before including your address, phone number, email address, or other personal identifying information in your comment, you should be aware that your entire comment—including your personal identifying information—may be made publicly available at any time. While you can ask us in your comment to withhold your personal identifying information from public review, we cannot guarantee that we will be able to do so.

Dated: March 27, 2014.
Mark Johnston,
Assistant Secretary for Community Planning and, Development (Acting).

[FR Doc. 2014-07366 Filed 4-1-14; 8:45 am]

BILLING CODE 4210-67-P